ENVIRONMENTAL PROTECTION AGENCY

40 CFR Part 52

[CA 040-0223b; FRL-6563-4]

Approval and Promulgation of State Implementation Plans; California State Implementation Plan Revision, Ventura County Air Pollution Control District, Monterey Bay Unified Air Pollution Control District, and Santa Barbara County Air Pollution Control District

AGENCY: Environmental Protection Agency (EPA).

ACTION: Proposed rule.

SUMMARY: EPA is proposing revisions to the California State Implementation Plan (SIP) which concern the control of volatile organic compound (VOC) emissions from architectural coatings.

The intended effect of this action is to regulate emissions of VOCs in accordance with the requirements of the Clean Air Act, as amended in 1990 (CAA or the Act). In the Final Rules Section of this Federal Register, the EPA is approving the state's SIP submittal as a direct final rule without prior proposal because the Agency views this as a noncontroversial revision and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by April 24, 2000.

ADDRESSES: Comments should be addressed to: Andrew Steckel, Rulemaking Office [AIR-4], Air Division, U.S. Environmental Protection Agency, Region IX, 75 Hawthorne Street, San Francisco, CA 94105-3901.

Copies of the rule revisions and EPA's evaluation report of each rule are available for public inspection at EPA's Region IX office during normal business hours. Copies of the submitted rule revisions are also available for inspection at the following locations:

California Air Resources Board, Stationary Source Division, Rule Evaluation Section, 2020 “L” Street, Sacramento, CA 95812.

Ventura County Air Pollution Control District, 669 County Square Drive, 2nd Floor, Ventura, CA 93003.

Monterey Bay Unified Air Pollution Control District, 24580 Silver Cloud Court, Monterey, CA 93940.

Santa Barbara County Air Pollution Control District, 26 Castilian Drive, Suite B-23, Goleta, CA 93117.

FOR FURTHER INFORMATION CONTACT: Yvonne Fong, Rulemaking Office [AIR-4], Air Division, U.S. Environmental Protection Agency, Region IX, 75 Hawthorne Street, San Francisco, CA 94105-3901, Telephone: (415) 744-1199.

SUPPLEMENTARY INFORMATION:

This document concerns Ventura County Air Pollution Control District Rule 74.2, Architectural Coatings, submitted to EPA by the California Air Resources Board (CARB) on November 12, 1992; Monterey Bay Unified Air Pollution Control District Rule 426, Architectural Coatings, and Santa Barbara County Air Pollution Control District Rule 323, Architectural Coatings both submitted to EPA by the CARB on March 3, 1997. For further information, please see the information provided in the direct final action that is located in the rules section of this Federal Register.

Dated: March 10, 2000.
Felicia Marcus,
Regional Administrator, Region IX.

[FR Doc. 00-7228 Filed 3-23-00; 8:45 am]

BILLING CODE 6560-50-P